DEPARTMENT OF ENERGY

[OE Docket No. EA-491]

Application To Export Electric Energy; Trafigura Trading LLC

AGENCY: Office of Electricity, Department of Energy.

ACTION: Notice of application.

SUMMARY: Trafigura Trading LLC (Applicant or Trafigura) has applied for authorization to transmit electric energy from the United States to Mexico pursuant to the Federal Power Act.

DATES: Comments, protests, or motions to intervene must be submitted on or before October 28, 2021.

ADDRESSES: Comments, protests, motions to intervene, or requests for more information should be addressed by electronic mail to Electricity.Exports@hq.doe.gov.

FOR FURTHER INFORMATION CONTACT: Matt Aronoff, 202-586-5863, matthew.aronoff@hq.doe.gov.

SUPPLEMENTARY INFORMATION: The Department of Energy (DOE) regulates exports of electricity from the United States to a foreign country, pursuant to sections 301(b) and 402(f) of the Department of Energy Organization Act (42 U.S.C. 7151(b) and 42 U.S.C. 7172(f)). Such exports require authorization under section 202(e) of the Federal Power Act (16 U.S.C. 824a(e)).

On August 18, 2021, Trafigura filed an application with DOE (Application or App.) to transmit electric energy from the United States to Mexico for a period of five years (or such longer period as may be permitted by the Department.)” App. at 1. Trafigura states that it “is a Delaware limited liability company with its principal place of business in Houston, Texas.” Id. Trafigura adds that it “is a direct wholly-owned subsidiary of Trafigura US Inc. (`TUSI'), a Delaware corporation, which itself is a wholly-owned indirect subsidiary of the Singapore-registered company Trafigura Group Pte. Ltd. (`TGPL') which is the main holding company for the Trafigura group.” Id. at 1.

Trafigura represents that it “does not directly or indirectly own, operate or control any electric generation facilities, electric transmission facilities, distribution facilities, or inputs to electric power production.” App. at 3. Trafigura states that it would “purchase the power to be from the markets which it participates,” including “purchases from electric utilities, federal power marketing agencies, qualifying cogeneration, small power production facilities and exempt wholesale generators (as those terms are defined in the FPA), independent system operators, regional transmission organizations, and other public utilities.” Id. at 4.

Trafigura contends that its proposed exports therefor would “not impair or tend to impede the sufficiency of electric power supplies in the United States or the regional coordination of electric utility planning or operations.” Id.

Procedural Matters: Any person desiring to be heard in this proceeding should file a comment or protest to the Application at the address provided above. Protests should be filed in accordance with Rule 211 of the Federal Energy Regulatory Commission's (FERC) Rules of Practice and Procedure (18 CFR 385.211). Any person desiring to become a party to this proceeding should file a motion to intervene at the above address in accordance with FERC Rule 214 (18 CFR 385.214).

Comments and other filings concerning Trafigura's application to export electric energy to Mexico should be clearly marked with OE Docket No. EA-491. Additional copies are to be provided directly to Eduardo Pigretti, 1401 McKinney Street, Suite 1500, Houston, TX 77010, eduardo.pigretti@trafigura.com; Terence T. Healey, 60 State Street, 34th Floor, Boston, MA 02109, thealey@sidley.com; Sarah A. Tucker, 1501 K Street NW, Washington DC 20005, stucker@sidley.com; Radhika Kannan, 1501 K Street NW, Washington DC 20005, rkannan@sidley.com.

A final decision will be made on the requested authorization after the environmental impacts have been evaluated pursuant to DOE's National Environmental Policy Act Implementing Procedures (10 CFR part 1021) and after DOE evaluates whether the proposed action will have an adverse impact on the sufficiency of supply or reliability of the U.S. electric power supply system.

Copies of the Application will be made available, upon request, by accessing the program website at https://energy.gov/node/11845, or by emailing Matt Aronoff at matthew.aronoff@hq.doe.gov.

Signed in Washington, DC, on September 23, 2021.
Christopher Lawrence,
Management and Program Analyst, Energy Resilience Division, Office of Electricity.

[FR Doc. 2021-21062 Filed 9-27-21; 8:45 am]

BILLING CODE 6450-01-P